DEPARTMENT OF AGRICULTURE

Food Safety and Inspection Service

[Docket No. 05-006N]

Codex Alimentarius Commission: Meeting of the Codex Committee on Nutrition and Foods for Special Dietary Uses

AGENCY: Office of the Under Secretary for Food Safety, USDA.

ACTION: Notice of public meeting and request for comments.

SUMMARY: The Office of the Under Secretary for Food Safety, United States Department of Agriculture (USDA), and the Food and Drug Administration (FDA), U.S. Department of Health and Human Services (HHS), are sponsoring a public meeting on October 18, 2005. The objective of the public meeting is to provide information and receive public comments on agenda items and draft U.S. positions that will be discussed at the 27th Session of the Codex Committee on Nutrition and Foods for Special Dietary Uses (CCNFSDU) of the Codex Alimentarius Commission (Codex), which will be held in Bonn, Germany, November 21-25, 2005. The Under Secretary for Food Safety and FDA recognize the importance of providing interested parties the opportunity to obtain background information on the 27th Session of CCNFSDU and to address items on the agenda.

DATES: The public meeting is scheduled for Tuesday, October 18, 2005, from 1 p.m. to 4 p.m.

ADDRESSES: The public meeting will be held in the Auditorium (1A003), Food and Drug Administration, Harvey Wiley Federal Building, 5100 Paint Branch Parkway, College Park, MD. Parking is adjacent to this building, and the College Park metro station is across the street. Documents related to the 27th Session of the CCNFSDU will be accessible via the World Wide Web at the following address: http://www.codexalimentarius.net/current.asp.

FSIS invites interested persons to submit comments on this notice. Comments may be submitted by any of the following methods:

• Mail, including floppy disks or CD-ROMs, and hand-or courier-delivered items: Send to the FSIS Docket Clerk, U.S. Department of Agriculture, Food Safety and Inspection Service, 300 12th Street, SW., Room 102, Cotton Annex, Washington, DC 20250. All comments received must include the Agency name and docket number 05-006N. All comments submitted in response to this notice, will be available for public inspection in the FSIS Docket Room at the address listed above between 8:30 a.m. and 4:30 p.m., Monday through Friday. The comments also will be posted on the Agency's Web site at http://www.fsis.usda.gov/regulations/2005_Notices_Index/.

In addition to submitting comments by mail to the above address, the U.S. Delegate to the CCNFSDU, Dr. Barbara Schneeman of the Food and Drug Administration, invites U.S. interested parties to submit their comments electronically to the following e-mail address (nancy.crane@cfsan.fda.gov).

Pre-Registration: To gain admittance to this meeting, individuals must present a photo ID for identification and also are required to pre-register. In addition, no cameras or videotaping equipment will be permitted in the meeting room. To pre-register, please send the following information to this e-mail address nancy.crane@cfsan.fda.gov by October 11, 2005:

—Your Name.

—Organization.

—Mailing Address.

—Phone number.

—E-mail address.

FOR FURTHER INFORMATION CONTACT: About the 27th session of the CCNFSDU: Nancy Crane, Assistant to the U.S. Delegate to the CCNFSDU, Office of Nutritional Products, Labeling and Dietary Supplements, Center for Food Safety and Applied Nutrition, FDA, 5100 Paint Branch Parkway (HFS-800), College Park, MD 20740, phone: (301) 436-1450, Fax: (301) 436-2636. E-mail: nancy.crane@cfsan.fda.gov. About the public meeting: Ellen Matten, International Issues Analyst, U.S. Codex Office, Food Safety and Inspection Service, Room 4861, South Building, 1400 Independence Avenue, SW., Washington, DC 20250, phone: (202) 205-7760, Fax: (202) 720-3157.

SUPPLEMENTARY INFORMATION:

Background

Codex was established in 1962 by two United Nations organizations, the Food and Agriculture Organization (FAO) and the World Health Organization (WHO). Codex is the major international organization for encouraging fair international trade in food and protecting the health and economic interests of consumers. Through adoption of food standards, codes of practice, and other guidelines developed by its committees, and by promoting their adoption and implementation by governments, Codex seeks to ensure that the world's food supply is sound, wholesome, free from adulteration, and correctly labeled.

CCNFSDU was established to study specific nutritional problems assigned to it by the Commission and advise the Commission on general nutritional issues; to draft general provisions as appropriate, concerning the nutritional aspects of all foods; to develop standards, guidelines or related texts for foods for special dietary uses, in cooperation with other committees when necessary; and to consider, amend if necessary, and endorse provisions on nutritional aspects proposed for inclusion in Codex standards, guidelines and related texts. The CCNFSDU is hosted by the Federal Republic of Germany.

Issues To Be Discussed at the Public Meeting

The following items on the Agenda for the 27th Session of the Committee will be discussed during the public meeting:

• Matters referred to the Committee from other Codex bodies.

• Guidelines for Use of Nutrition Claims: Draft Table of Conditions for Nutrient Contents: (Part B, containing provisions on Dietary Fibre).

• Discussion Paper on the Proposals for Additional or Revised Nutrient Reference Values for Labelling Purposes.

• Draft Revised Standard for Processed Cereal-Based Foods for Infants and Young Children.

• Draft Revised Standard for Infant Formula and Formulas for Special Medical Purposes Intended for Infants:

Section A: Draft Revised Standard for Infant Formula Proposals of the Working Group for the Section on Food Additives;

Section B: Formulas for Special Medical Purposes Intended for Infants.

• Advisory List of Nutrient Compounds for Use in Foods for Special Dietary Uses Intended for the Use by Infants and Young Children.

• Proposed Draft Recommendations on the Scientific Basis of Health Claims.

• Discussion Paper on the Application of Risk Analysis to the Work of the CCNFSDU.

Each issue listed will be fully described in documents distributed, or to be distributed, by the German Secretariat prior to the meeting. Members of the public may access or request copies of these documents at: http://www.codexalimentarious.net/current.asp.

Public Meeting

At the October 18th public meeting, draft U.S. positions on the agenda items will be described, discussed, and attendees will have the opportunity to pose questions and offer comments. Written comments may be offered at the meeting or sent to the U.S. Delegate for the 27th Session of CCNFSDU, Dr. Barbara Schneeman (see ADDRESSES). Written comments should state that they relate to activities of the 27th Session of the CCNFSDU.

Additional Public Information

Public awareness of all segments of rulemaking and policy development is important. Consequently, in an effort to ensure that the public, and in particular minorities, women, and persons with disabilities are aware of this notice, FSIS will announce it on-line through the FSIS Web page located at http://www.fsis.usda.gov/regulations/2005_Notices_Index/.

FSIS also will make copies of this Federal Register publication available through the FSIS Constituent Update, which is used to provide information regarding FSIS policies, procedures, regulations, Federal Register notices, FSIS public meetings, recalls, and other types of information that could affect or would be of interest to our constituents and stakeholders. The update is communicated via Listserv, a free electronic mail subscription service for industry, trade, and farm groups, consumer interest groups, allied health professionals, scientific professionals, and other individuals who have requested to be included. The update also is available on the FSIS Web page. Through Listserv and the Web page, FSIS is able to provide information to a much broader, more diverse audience.

In addition, FSIS offers an electronic mail subscription service which provides an automatic and customized notification when popular pages are updated, including Federal Register publications and related documents. This service is available at http://www.fsis.usda.gov/news_and_events/email_subscription/ and allows FSIS customers to sign up for subscription options across eight categories. Options range from recalls to export information to regulations, directives, and notices.

Customers can add or delete subscriptions themselves and have the option to protect their accounts with passwords.

Done at Washington, DC on August 8, 2005.
F. Edward Scarbrough,
U.S. Manager for Codex Alimentarius.

[FR Doc. 05-15913 Filed 8-10-05; 8:45 am]

BILLING CODE 3410-DM-P